ENVIRONMENTAL PROTECTION AGENCY

[FRL-7827-9]

Science Advisory Board Staff Office; Notification of an Upcoming Meeting of the Ecological Effects Subcommittee of the Advisory Council on Clean Air Compliance Analysis

AGENCY: Environmental Protection Agency (EPA).

ACTION: Notice.

SUMMARY: The EPA Science Advisory Board (SAB) Staff Office announces a public meeting of the Ecological Effects Subcommittee (EES) of the Advisory Council on Clean Air Compliance Analysis (Council). The EES will discuss charge questions related to ecological issues as found in the Office of Air and Radiation's Benefits and Costs of the Clean Air Act, Revised Analytic Plan for EPA's Second Prospective Analysis, 1990-2020.

DATES: The public meeting of the Council EES will be held on November 5, 2004 from 9 a.m. to 4 p.m. (Eastern time). The meeting will be held at the SAB Conference Center, 1025 F Street, NW., Suite 3700, Washington, DC.

FOR FURTHER INFORMATION CONTACT: Any member of the public wishing further information regarding the SAB or the Council EES may contact Dr. Holly Stallworth, Designated Federal Officer, at telephone/voice mail: (202) 343-9867 or via e-mail at: stallworth.holly@epa.gov. General information about the SAB and the meeting location may be found on the SAB Web site at: www.epa.gov/sab.

SUPPLEMENTARY INFORMATION:

Background

EPA's Office of Air and Radiation (OAR) conducts periodic, scientifically-reviewed studies to assess the costs and benefits of regulations promulgated under the Clean Air Act. The Council is an outside body of recognized experts charged with reviewing the data, methods and cost-benefit analyses conducted by OAR for implementing its programs. The EES is one of the Council's three subcommittees.

EPA has thus far issued one retrospective analysis of the Clean Air Act covering the 1970-1990 time period and one prospective analysis covering the 1990-2010 time period. EPA is planning a second prospective analysis covering the 1990-2020 time period and has issued two analytic blueprints for this analysis. The Council provided advice on these analytic blueprints in 2001 and 2004, but deferred three charge questions pertaining to ecological effects to the EES. The Council's reports may be found at: http://www.epa.gov/sab/fiscal04.htm. OAR's “Section 812” reports are posted at: http://www.epa.gov/air/sect812/index.html. Additional background on the Council and on the statutorily mandated analyses of the costs and benefits of Clean Air Act programs was provided in a Federal Register notice published on February 14, 2003 (68 FR 7531-7534).

The November 5, 2004 meeting will provide the Council EES an opportunity to address the Agency's three charge questions pertaining to ecological issues and Clean Air Act regulations. These three charge questions (numbers 18-20) may be found at: http://www.epa.gov/air/sect812/812chargequestions-070303finalrevised.pdf. A meeting agenda will be posted on the SAB Web site prior to the meeting.

Procedures for Providing Public Comments

It is the policy of the EPA SAB to accept written public comments of any length, and to accommodate oral public comments whenever possible. The SAB Staff Office expects that public statements presented at the EES meeting will not be repetitive of previously submitted oral or written statements. Oral Comments: In general, each individual or group requesting an oral presentation at a face-to-face meeting will be limited to a total time of ten minutes (unless otherwise indicated). Interested parties should contact the DFO in writing (e-mail, fax or mail—see contact information above) by close of business October 29, 2004, in order to be placed on the public speaker list for the meeting. Speakers should bring at least 35 copies of their comments and presentation slides for distribution to the participants and public at the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 98/2000/XP format). Those providing written comments and who attend the meeting are also asked to bring 35 copies of their comments for public distribution.

Meeting Accommodations

Individuals requiring special accommodation to access the public meetings listed above should contact the DFO at least five business days prior to the meeting so that appropriate arrangements can be made.

Dated: October 7, 2004.
Vanessa T. Vu,
Director, EPA Science Advisory Board Staff Office.

[FR Doc. 04-23036 Filed 10-13-04; 8:45 am]

BILLING CODE 6560-50-P